TENNESSEE VALLEY AUTHORITY

Sunshine Act Meeting

Agency Holding the Meeting: Tennessee Valley Authority (Meeting No. 1532).

Time and Date: 9 a.m. (EDT), July 18, 2001.

Place: Bristol, Tennessee, Electric System Meeting Room.

Status: Open.

Agenda

Approval of minutes of meeting held on June 11, 2001.

New Business

B—Purchase Award

B1. Contract with Primacy Relocation, LLC, for relocation services.

C—Energy

C1. Supplement to Contract No. 00BYS-254372-000 with Henwood Energy Services, Inc., to increase the contract expenditure ceiling for consulting services.

E—Real Property Transactions

E1. Sale of noncommercial, nonexclusive permanent easements to Kevin and Karen Millikan (Tract No. XTELR-220RE) and Merle and Marilyn Isaacs (Tract No. XTELR-222RE) for construction and maintenance of recreational water-use facilities affecting approximately 0.19 acre of Tellico Reservoir shoreline in Loudon and Monroe Counties, Tennessee.

E2. Grant of a 30-year term easement to Campbell County, Tennessee, for a county park affecting approximately 35 acres of land on Norris Reservoir in Campbell County, Tennessee (Tract No. XTNR-114RE).

E3. Grant of a 30-year term easement to the City of Knoxville, Tennessee, for a public park affecting approximately 30.1 acres of land on Fort Loudoun Reservoir in Knox County, Tennessee (Tract No. XTFL-126RE).

E4. Approval of Cherokee Reservoir Land Management Plan—Jefferson, Hamblen, Grainger, and Hawkins Counties, Tennessee.

F—Other

F1. Approval to file condemnation cases to acquire easement rights-of-way and right to enter upon land to survey for transmission lines. The affected tracts are West Ringgold-Center Point transmission line in Whitfield County, Georgia, and Aspen Grove-Bingham transmission line in Williamson County, Tennessee.

Information Item

1. Approval of the transfer to the State of Tennessee of approximately 12,800 acres of land acquired for the Columbia Dam Project and of various easements.

For more information: Please call TVA Media Relations at (865) 632-6000, Knoxville, Tennessee. Information is also available at TVA's Washington Office (202) 898-2999. People who plan to attend the meeting and have special needs should call (865) 632-6000.

Dated: July 11, 2001.
Charles L. Young,
Assistant General Counsel, and Assistant Secretary.

[FR Doc. 01-17865 Filed 7-12-01; 2:37 pm]

BILLING CODE 8120-08-M